FEDERAL COMMUNICATIONS COMMISSION

Sunshine Act Meeting

June 1, 2000.

Open Commission Meeting, Thursday, June 8, 2000

The Federal Communications Commission will hold an Open Meeting on the subjects listed below on Thursday, June 8, 2000, which is scheduled to commence at 9:30 a.m. in Room TW-C305, at 445 12th Street, SW, Washington, DC.

Item No., Bureau, and Subject

1—Office of General Counsel—Title: Statement of Policy on Establishing a Government-to-Government Relationship with Indian Tribes. Summary: The Commission will consider a Statement of Policy reaffirming the Commission's commitment to the principles of Indian sovereignty and the federal trust responsibility.

2—Common Carrier—Title: Federal-State Joint Board on Universal Service; Promoting Deployment and Subscribership in Unserved and Underserved Areas, Including Tribal and Insular Areas (CC Docket No. 96-45); and Western Wireless Corporation, Crow Reservation in Montana; Smith Bagley, Inc.; Cheyenne River Sioux Tribe Telephone Authority; Western Wireless Corporation, Wyoming; Cellco Partnership d/b/a Bell Atlantic Mobile, Inc.; Petitions for Designation as an Eligible Telecommunications Carrier and for Related Waivers to Provide Universal Service. Summary: The Commission will consider a 12th Report and Order and Memorandum Opinion and Order that addresses access to telephone service within American Indian and Alaska Native tribal communities and the Commission's jurisdiction under Section 214 of the Communications Act of 1934.

3—Wireless Telecommunications—Title: Extending Wireless Telecommunications Services to Tribal Lands (WT Docket No. 99-266). Summary: The Commission will consider a Report and Order and Further Notice of Proposed Rule Making aimed at expanding wireless services on tribal lands.

4—International—Title: Review of Commission Consideration of Applications under the Cable Landing License Act. Summary: The Commission will consider a Notice of Proposed Rule Making concerning proposals to streamline the Commission's process for licensing submarine cables.

5—Office of Engineering and Technology—Title: Amendment of Parts 2 and 95 of the Commission's Rules to Create a Wireless Medical Telemetry Service (ET Docket No. 99-255 and PR Docket No. 92-235). Summary: The Commission will consider a Report and Order to allocate spectrum on a primary basis for medical telemetry equipment, and to establish rules for a new wireless medical telemetry service.

Additional information concerning this meeting may be obtained from Maureen Peratino or Davis Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternate media, including large print/type; digital disk; and audio tape. ITS may be reached by e-mail: its_inc@ix.netcom.com. Their Internet address is http://www.itsdocs.com/.

This meeting can be viewed over George Mason University's Capitol Connection. The Capitol Connection also will carry the meeting live via the Internet. For information on these services call (703) 993-3100. The audio portion of the meeting will be broadcast live on the Internet via the FCC's Internet audio broadcast page at

<http://www.fcc.gov/realaudio/>. The meeting can also be heard via telephone, for a fee, from National Narrowcast Network, telephone (202) 966-2211 or fax (202) 966-1770. Audio and video tapes of this meeting can be purchased from Infocus, 341 Victory Drive, Herndon, VA 20179, telephone (703) 834-0100; fax number (703) 834-0111.

Federal Communications Commission.
Magaline Roman Salas,
Secretary.

[FR Doc. 00-14283 Filed 6-2-00; 8:45 am]

BILLING CODE 6712-01-M